DEPARTMENT OF COMMERCE

International Trade Administration

National Center for Toxicological Research, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue, NW., Washington, DC.

Docket Number: 10-015. Applicant: National Center for Toxicological Research, (USFDA), Jefferson, AK 72079. Instrument: Electron Microscope. Manufacturer: JEOL, Ltd., Japan. Intended Use: See notice at 75 FR 37384, June 29, 2010.

Docket Number: 10-023. Applicant: University of Virginia, Charlottesville, VA 22903. Instrument: Electron Microscope. Manufacturer: FEI Company, the Netherlands. Intended Use: See notice at 75 FR 37384, June 29, 2010.

Docket Number: 10-029. Applicant: Argonne National Laboratory, Lemont, IL 60439. Instrument: Electron Microscope. Manufacturer: JEOL, Ltd., Japan. Intended Use: See notice at 75 FR 37384, June 29, 2010.

Docket Number: 10-030. Applicant: University of California, Davis, CA 95616. Instrument: Electron Microscope. Manufacturer: Elionix Co., Ltd., Japan. Intended Use: See notice at 75 FR 37384, June 29, 2010.

Docket Number: 10-031. Applicant: National Institutes of Health, Bethesda, MD 20892. Instrument: Electron Microscope. Manufacturer: JEOL, Ltd., Japan. Intended Use: See notice at 75 FR 37384, June 29, 2010.

Docket Number: 10-032. Applicant: Battelle Memorial Institute, Richland, WA 99354. Instrument: Electron Microscope. Manufacturer: FEI Company, the Netherlands. Intended Use: See notice at 75 FR 37384, June 29, 2010.

Docket Number: 10-033. Applicant: Massachusetts General Hospital, Charlestown, MA 02120. Instrument: Electron Microscope. Manufacturer: JEOL Ltd., Japan. Intended Use: See notice at 75 FR 37384, June 29, 2010.

Docket Number: 10-035. Applicant: University of Maine System, St., Bangor, ME 04401. Instrument: Electron Microscope. Manufacturer: Tescan, Czech Republic. Intended Use: See notice at 75 FR 37384, June 29, 2010.

Docket Number: 10-036. Applicant: University of Kansas Medical Center, Kansas City, KS 66160. Instrument: Electron Microscope. Manufacturer: JEOL, Ltd., Japan. Intended Use: See notice at 75 FR 37384, June 29, 2010.

Docket Number: 10-037. Applicant: University of South Dakota, Vermillion, SD 57069. Instrument: Electron Microscope. Manufacturer: FEI Company, Czech Republic. Intended Use: See notice at 75 FR 37384, June 29, 2010.

Docket Number: 10-040. Applicant: Illinois State University, Normal, IL 61790-4120. Instrument: Electron Microscope. Manufacturer: FEI Company, Czech Republic. Intended Use: See notice at 75 FR 37384, June 29, 2010.

Docket Number: 10-041. Applicant: Temple University, Philadelphia, PA 19122. Instrument: Electron Microscope. Manufacturer: JEOL, Ltd., Japan. Intended Use: See notice at 75 FR 37384, June 29, 2010.

Docket Number: 10-042. Applicant: University of Arkansas for Medical Sciences, Little Rock, AR 72205. Instrument: Electron Microscope. Manufacturer: FEI, the Netherlands. Intended Use: See notice at 75 FR 37384, June 29, 2010.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: July 21, 2010.
Christopher Cassel,
Director, Subsidies Enforcement Office, Import Administration.

[FR Doc. 2010-18390 Filed 7-26-10; 8:45 am]

BILLING CODE 3510-DS-P